DEPARTMENT OF JUSTICE

Notice of Extension of Public Comment Period Under the Clean Air Act

Pursuant to 28 CFR 50.7, notice is hereby given that the United States has agreed to extend the public comment period in connection with a proposed Consent Decree in United States v. Pacific Gas & Electric Company [“PG&E”], Civil Action No. CV-09-4503 (N.D. Cal.), that was lodged with the United States District Court for the Northern District of California on September 24, 2009. The Consent Decree addresses an alleged violation of the Clean Air Act, 42 U.S.C. 7401—7671 et seq., which occurred at the Gateway Generating Station, a natural gas fired power plant located near Antioch, California. The alleged violation arises from the construction of the plant by PG&E allegedly without an appropriate permit in violation of the Prevention of Significant Deterioration provisions of the Clean Air Act, 42 U.S.C. 7475, and without installing and applying best available control technology at the plant to control emissions of various air pollutants.

On October 5, 2009, the United States published a notice in the Federal Register, 74 FR 51170, announcing a 30 day public comment period on the proposed settlement. During the comment period, the United States received requests from various citizen groups, including Citizens for a Better Environment, ACORN, and Californians for Renewable Energy, asking the United States to extend the period for the public to submit their comments and to provide to the United States other information that these organizations believe should be considered in connection with the proposed settlement. In light of these requests, the United States has agreed to extend the time for the public to submit comments on the proposed settlement to a date sixty (60) days from the date of publication of this Federal Register notice.

Comments should be addressed to the Assistant Attorney General, Environment and Natural Resources Division, and mailed either electronically to pubcomment-ees.enrd@usdoj.gov or in hard copy to the United States Department of Justice, P.O. Box 7611, Ben Franklin Station, Washington, DC 20044-7611. Comments should refer to United States v. Pacific Gas & Electric Company, Civil Action No. CV-09-4503 (N.D. Cal.) and D.J. Ref. No. 90-5-2-1-09753.

The Consent Decree may be examined at: (1) The offices of the United States Department of Justice, 301 Howard Street, San Francisco, California 94105; and (2) the offices of the U.S. Environmental Protection Agency, Region 9, 75 Hawthorne St., San Francisco, CA 94105. During the public comment period, the Consent Decree may also be examined on the following Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (21 pages at 25 cents per page reproduction costs) payable to the U.S. Treasury.

Maureen M. Katz,
Assistant Chief, Environmental Enforcement Section, Environment and Natural Resources Division.

[FR Doc. E9-26916 Filed 11-6-09; 8:45 am]

BILLING CODE 4410-15-P